DEPARTMENT OF THE INTERIOR

Bureau of Land Management

[CA-190-07-1610]

Notice of Availability of Record of Decision for the Surprise Resource Management Plan

AGENCY: Bureau of Land Management, Interior.

ACTION: Notice of Availability.

SUMMARY: In accordance with the National Environmental Policy Act (NEPA), the Federal Land Policy Management Act (FLPMA), and the Bureau of Land Management (BLM), policies, the BLM announces the availability of the Record of Decision (ROD)/Approved Resource Management Plan (RMP) for the Surprise Field Office. The California State Director has signed the ROD, which constitutes the final decision of the BLM and makes the Approved RMP effective immediately.

ADDRESSES: Copies of the ROD and RMP are available upon request from the Field Manager, Surprise Field Office, Bureau of Land Management, 602 Cressler Street Cedarville, California 96104, or via the internet at http://www.blm.gov/ca/st/en/prog/planning.html.

FOR FURTHER INFORMATION CONTACT: For further information contact Jeff Fontana, Public Affairs Officer, Bureau of Land Management, 2950 Riverside Dr., Susanville, CA 96130, telephone (530) 257-0456, or e-mail your request to: necarmp@ca.blm.gov.

SUPPLEMENTARY INFORMATION: The Surprise Field Office includes approximately 1,220,644 acres in northeastern California and northwest Nevada. The geographic area includes BLM-administered lands within the counties of Modoc and Lassen, California, and Humboldt and Washoe, Nevada. The Surprise RMP was developed in coordination with the Alturas and Eagle Lake Field Office RMPs to provide a consistent framework for managing public lands and resource uses in northeast California and northwest Nevada.

BLM officially initiated the planning process for the Draft Surprise Resource Management Plan (RMP) with publication of a Notice of Intent in the Federal Register on July 22, 2003 (Volume 68, Number 140). Issues related to resource management in the Surprise planning area were established during the scoping process consisting of public scoping meetings, field tours, socioeconomic workshops, and interactions with Federal, state, tribal, and county collaborators.

The RMP describes management actions to meet desired resource conditions for vegetation communities, wildlife habitats, and cultural and visual resources. It also outlines actions for recreation, protection of sensitive natural and cultural resources, livestock grazing, guidance for energy and mineral development, land tenure adjustments, and other planning issues raised during the scoping process. The Surprise RMP designated three Areas of Critical Environmental Concern (ACECs): Massacre Rim ACEC (44,870 acres); Bitner ACEC (1,921 acres); and Rahilly-Gravelly ACEC/RNA (957 acres). The following types of resource use limitations apply to these ACECs: (1) New rights-of-way exclusion or avoidance; (2) Visual Resource Management Class II; (3) Certain restrictions to energy and mineral development; and (4) Motorized travel permitted only on designated open routes. The BLM's Draft Surprise RMP/Draft Environmental Impact Statement (EIS) (April 2006) presented five alternatives to help the BLM and interested parties understand the various ways of addressing issues in the region. Upon evaluation of the alternatives and associated impacts described in the Draft RMP/EIS and based on public and agency comments on that document, the BLM prepared the Surprise Proposed RMP and Final EIS which was released on June 15, 2007. The Proposed RMP is comprised of the preferred alternative identified in the Draft RMP/EIS with small changes as a result of comments received. Six protest letters on the Surprise proposed RMP were received and resolved by the BLM Director. The BLM determined that the Proposed Action, as described in the Proposed RMP and Final EIS, best meets the purpose and need for the project. The Governor of the State of California in his letter September 17, 2007 stated, “Pursuant to 43 CFR 1603-2, and after consulting with affected State and Local agencies, the Governor's Office of Planning and Research (OPR) has not found any inconsistencies with any state or local plans, policies, or programs with regards to this [Proposed] Resource Management Plan.”

The decisions identifying designated routes of travel for motorized vehicles are implementation decisions and are appealable to the Interior Board of Land Appeals (IBLA) under 43 CFR Part 4. These decisions are contained in Chapter 2.14.4 and shown on Map TRAVEL-1 of the RMP. Any party adversely affected by the BLM's decision(s) to identify, evaluate, define, delineate, and/or select specific routes as available for motorized use within designated areas of travel as set forth in the Surprise Resource Management Plan may appeal within 30 days of publication of this Notice of Availability. The appeal must be filed with the Surprise Field Manager at the above listed address. Please consult 43 CFR Part 4 for further information on the IBLA appeal process.

Dated: December 10, 2007.
Shane Deforest,
Surprise Field Office Manager.

[FR Doc. E8-9513 Filed 4-30-08; 8:45 am]

BILLING CODE 4310-40-P